INTERNATIONAL TRADE COMMISSION

[Investigation Nos. 701-TA-712-714 and 731-TA-1679-1681 (Final)]

Ferrosilicon From Brazil, Kazakhstan, and Malaysia

Determinations

On the basis of the record ¹ developed in the subject investigations, the United States International Trade Commission (“Commission”) determines, pursuant to the Tariff Act of 1930 (“the Act”), that an industry in the United States is materially injured by reason of imports of ferrosilicon from Brazil, Kazakhstan, and Malaysia, provided for in subheadings 7202.21 and 7202.29 of the Harmonized Tariff Schedule of the United States, that have been found by the U.S. Department of Commerce (“Commerce”) to be sold in the United States at less than fair value (“LTFV”) and subsidized by the governments of Brazil, Kazakhstan, and Malaysia.2 3

¹ The record is defined in § 207.2(f) of the Commission's Rules of Practice and Procedure (19 CFR 207.2(f)).

² 90 FR 14075, 14077, 14105, 14108, 14112, and 14114 (March 28, 2025).

³ The Commission also finds that imports subject to Commerce's affirmative critical circumstances determinations are not likely to undermine seriously the remedial effect of the countervailing duty orders on Brazil and Malaysia.

Background

The Commission instituted these investigations effective March 28, 2024, following receipt of petitions filed with the Commission and Commerce by CC Metals and Alloy, LLC, Calvert City, Kentucky, and Ferroglobe USA, Inc., Beverly, Ohio. The Commission scheduled the final phase of the investigations following notification of preliminary determinations by Commerce that imports of ferrosilicon from Russia were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of July 9, 2024 (89 FR 56407). All persons who requested the opportunity were permitted to participate.

The investigation schedules became staggered when Commerce postponed its preliminary determinations for the antidumping and countervailing duty investigations with respect to Brazil, Kazakhstan, and Malaysia, but not its preliminary determinations for the antidumping and countervailing duty investigations with respect to Russia. Following notification of final determinations by Commerce that imports of ferrosilicon from Brazil, Kazakhstan, and Malaysia were being subsidized by the governments of Brazil, Kazakhstan, and Malaysia within the meaning of section 703(b) of the Act (19 U.S.C. 1671b(b)) and sold at LTFV within the meaning of section 735(a) of the Act (19 U.S.C. 1673d(a)), notice of the supplemental scheduling of the final phase of the Commission's countervailing duty and antidumping duty investigations was given by posting copies of the notice in the Office of the Secretary, U.S. International Trade Commission, Washington, DC, and by publishing the notice in the Federal Register of April 4, 2025 (90 FR 14869).

The Commission made these determinations pursuant to §§ 705(b) and 735(b) of the Act (19 U.S.C. 1671d(b) and 19 U.S.C. 1673d(b)). It completed and filed its determinations in these investigations on May 12, 2025. The views of the Commission are contained in USITC Publication 5620 (May 2025), entitled Ferrosilicon from Brazil, Kazakhstan, and Malaysia: Investigation Nos. 701-TA-712-714 and 731-TA-1679-1681 (Final).

By order of the Commission.
Issued: May 12, 2025.
Lisa Barton,
Secretary to the Commission.

[FR Doc. 2025-08720 Filed 5-15-25; 8:45 am]

BILLING CODE 7020-02-P